DEPARTMENT OF JUSTICE

Antitrust Division

Notice Pursuant to the National Cooperative Research and Production Act of 1993—IMS Global Learning Consortium, Inc.

Notice is hereby given that, on November 21, 2016, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, BNED LoudCloud, LLC, Basking Ridge, NJ; Chalk & Wire Learning Assessment Inc., Ridgeway, Ontario, CANADA; Fidelis Inc., Redwood City, CA; Kimono, Salt Lake City, UT; Loudon County Public Schools, Ashburn, VA; OpenEd, San Jose, CA; Oregon State University, Corvallis, OR; Unicon, Gilbert, AZ; University of California San Diego, La Jolla, CA; University of Florida, Gainesville, FL; and VHS, Inc., Maynard, MA, have been added as parties to this venture.

Also, Qualcomm, San Diego, CA; EdX, Cambridge, MA; Seoul Cyber University, Seoul, KOREA; and Data Recognition Corp., Maple Grove, MN, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on August 30, 2016. A notice was published in the Federal Register pursuant to Section 6(b) of the Act on October 13, 2016 (81 FR 70705).

Patricia A. Brink,
Director of Civil Enforcement, Antitrust Division.

[FR Doc. 2016-31910 Filed 1-3-17; 8:45 am]

BILLING CODE P